EQUAL EMPLOYMENT OPPORTUNITY COMMISSION

Agency Information Collection Activities: Notice of Submission for OMB Review; Comment Request

AGENCY: Equal Employment Opportunity Commission.

ACTION: Notice of Information Collection—Uniform Guidelines on Employee Selection Procedures—Extension without change.

SUMMARY: In accordance with the Paperwork Reduction Act of 1995, the Equal Employment Opportunity Commission gives notice that it is submitting the information described below to the Office of Management and Budget (OMB) for a three-year authorization.

DATES: Written comments on this final notice must be submitted on or before November 16, 2011.

ADDRESSES: The Request for Clearance (SF83-I) and supporting statement submitted to OMB for review may be obtained from Kathleen Oram, Senior Attorney, (202) 663-4681, Office of Legal Counsel, Equal Employment Opportunity Commission, 131 M Street, NE., Washington, DC 20507. Comments on this final notice must be submitted to Chad Lallemand in the Office of Information and Regulatory Affairs, Office of Management and Budget, 725 17th Street, NW., Room 10235, New Executive Office Building, Washington, DC 20503 or electronically mailed to Chad_A._Lallemand@omb.eop.gov. Comments should also be sent to Stephen Llewellyn, Executive Officer, Executive Secretariat, Equal Employment Opportunity Commission, 131 M Street, NE., Washington, DC 20507. Written comments of six or fewer pages may be faxed to the Executive Secretariat at (202) 663-4114. (There is no toll free FAX number.) Receipt of FAX transmittals will not be acknowledged, except that the sender may request confirmation of receipt by calling the Executive Secretariat staff at (202) 663-4070 (voice) or (202) 663-4074 (TTD). (These are not toll free numbers).

All comments received by the EEOC will be posted without change to the Federal eRulemaking Portal: http://www.regulations.gov, including any personal information provided.

Copies of the received comments also will be available for inspection in the EEOC Library, FOIA Reading Room, by advance appointment only, from 9 a.m. to 5 p.m., Monday through Friday, except legal holidays, from November 16, 2011. Persons who schedule an appointment in the EEOC Library, FOIA Reading Room, and need assistance to view the comments will be provided with appropriate aids upon request, such as readers or print magnifiers. To schedule an appointment to inspect the comments at the EEOC Library, FOIA Reading Room, contact the EEOC Library by calling (202) 663-4630 (voice) or (202) 663-4641 (TTY). (These are not toll free numbers).

FOR FURTHER INFORMATION CONTACT: Kathleen Oram, Senior Attorney, at (202) 663-4681 (voice), or Thomas J. Schlageter, Assistant Legal Counsel, (202) 663-4668 (voice) or (202) 663-7026 (TDD).

SUPPLEMENTARY INFORMATION:

Introduction

A notice that EEOC would be submitting this request to the Office of Management and budget for a three-year approval under the Paperwork Reduction Act (PRA) was published in the Federal Register on August 3, 2011, allowing for a 60 day comment period. 76 FR 46805 (Aug. 3, 2011).

EEOC received one comment in response to the August 2011 notice. The comment raises issues and concerns about the Uniform Guidelines on Employee Selection Procedures themselves and about their recordkeeping provisions. The comment argues that the Uniform Guidelines are merely advisory, not mandatory, and notes that the Department of Labor's Office of Contract Compliance Programs requests applicant information during compliance evaluations, suggesting that such requests qualify as a reporting requirement. The comment does not address the August 2011 Paperwork Reduction Act notice itself or EEOC's calculations in the burden statement.

Overview of Collection

Collection Title: Recordkeeping Requirements of the Uniform Guidelines on Employee Selection Procedures, 29 CFR part 1607, 41 CFR part 60-3, 28 CFR part 50, 5 CFR part 300.

OMB Number: 3046-0017.

Type of Respondent: Businesses or other institutions; Federal Government; State or local governments and farms.

North American Industry Classification System (NAICS) Code: Multiple.

Standard Industrial Classification Code (SIC): Multiple.

Description of Affected Public: Any employer, Government contractor, labor organization, or employment agency covered by the Federal equal employment opportunity laws.

Respondents: 899,580.

Responses: 899,580.

Recordkeeping Hours: 10,783,687 per year.

Number of Forms: None.

Form Number: None.

Frequency of Report: None.

Abstract: The Uniform Guidelines provide fundamental guidance for all Title VII-covered employers about the use of employment selection procedures. The records addressed by UGESP are used by respondents to assure that they are complying with Title VII and Executive Order 11246; by the Federal agencies that enforce Title VII and Executive Order 11246 to investigate, conciliate, and litigate charges of employment discrimination; and by complainants to establish violations of Federal equal employment opportunity laws. While there is no data available to quantify these benefits, the collection of accurate applicant flow data enhances each employer's ability to address any deficiencies in recruitment and selection processes, including detecting barriers to equal employment opportunity.

Burden Statement: There are no reporting requirements associated with UGESP. The burden being estimated is the cost of collecting and storing a job applicant's gender, race, and ethnicity data. The only paperwork burden derives from this recordkeeping.

Only employers covered under Title VII and Executive Order 11246 are subject to UGESP. For the purpose of burden calculation, employers with 15 or more employees are counted. The number of such employers is estimated at 899,580, which combines estimates from private employment,¹ the public sector,² colleges and universities,³ and referral unions.⁴

¹ “Employer Firms, Establishments, Employment, Annual Payroll and Receipts for Small Firm Size Classes, 2007 (http://www.sba.gov/advo/research/data.html#us).

² “Government Employment & Payroll” (statistics on number of federal, state, and local government civilian employees and their gross payrolls for March 2008); “2008 State & Local Government” (data for 50 state governments and all local governments); Individual Government Data File (http://www.census.gov/govs/apes/indes.html-2010). The number of government entities was adjusted to only include those with 15 or more employees.

³ Postsecondary Institutions in the United States: Fall 2007; Degrees and Other Awards Conferred: 2006-07; and 12-Month Enrollment: 2006-07, (http://nces.ed.gov/pubsearch/pubsinfo.spp?pubid=2008159rev).

⁴ EEO-3 Reports filed by referral unions in 2008 with EEOC.

This burden assessment is based on an estimate of the number of job applications submitted to all Title VII-covered employers in one year, including paper-based and electronic applications. The total number of job applications submitted every year to covered employers is estimated to be 1,294,042,500, which is based on a National Organizations Survey ⁵ average of approximately 35 applications for every hire and a Bureau of Labor Statistics data estimate of 36,731,900 annual hires.⁶ It includes 161,300 applicants for union membership reported on the EEO-3 form for 2008.

⁵ The National Organizations Survey is a survey of business organizations across the United States in which the unit of analysis is the actual workplace, (http://www.icpsr.umich.edu/icpsrweb/ICPSR/studies/04074).

⁶ Bureau of Labor Statistics Job Openings and Labor Turnover Survey-2010—(http://www.bls.gov/jlt/data.htm) adjusted to only include hires by firms with 15 or more employees.

The employer burden associated with collecting and storing applicant demographic data is based on the following assumptions: applicants would need to be asked to provide three pieces of information—sex, race/ethnicity, and an identification number (a total of approximately 13 keystrokes); the employer would need to transfer information received to a database either manually or electronically; and the employer would need to store the 13 characters of information for each applicant. Recordkeeping costs and burden are assumed to be the cost of entering 13 keystrokes.

Assuming that the required recordkeeping takes 30 seconds per record, and assuming a total of 1,294,042,500 paper and electronic applications per year (as calculated above), the resulting UGESP burden hours would be 10,783,687. Based on a wage rate of $13.65 per hour for the individuals entering the data, the collection and storage of applicant demographic data would come to approximately $147,197,332 per year for Title VII-covered employers. We expect that the foregoing assumptions are over-inclusive, because many employers have electronic job application processes that should be able to capture applicant flow data automatically.

While the burden hours and costs for the UGESP recordkeeping requirement seem very large, the average burden per employer is relatively small. We estimate that UGESP applies to 899,580 employers, approximately 822,000 of which are small firms (entities with 15-500 employees) according to data provided by the Small Business Administration Office of Advocacy.⁷ If we assume that a firm with 250 employees (in the mid-range of the 822,000 small employers) has 20 job openings per year and receives an average of 35 applications per job opening, the burden hours to collect and store applicants' sex and race/ethnicity data would be 5.8 hours per year, and the costs would be $79.11 per year. Similarly, if we assume that an employer with 1,500 employees has 125 job openings to fill each year, and receives 35 applications per opening, the burden hours would be 36.5 hours per year and the annual costs would be $498.23.

⁷ See Firm Size Data at http://sba.gov/advo/research/data.html#us.

Dated: October 11, 2011.
Jacqueline A. Berrien,
Chair, Equal Employment Opportunity Commission.

[FR Doc. 2011-26800 Filed 10-14-11; 8:45 am]

BILLING CODE 6570-01-P